DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2008, there were 10 applications approved. This notice also includes information on two applications, approved in August 2008, inadvertently left off the August 2008 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Erie Regional Airport Authority, Erie, Pennsylvania.

Application Number: 08-07-U-00-ERI.

Application Type: Use PFC revenue.

PFC Level: $4.50.

Total PFC Revenue Approved for Use in This Decision: $10,219,437.

Charge Effective Date: May 1, 2006.

Estimated Charge Expiration Date: May 1, 2024.

Class of Air Carriers not Required to Collect PFC's: No change from previous decision.

Brief Description of Project Approved for use: Runway 6/24 extension and runway safety area.

Decision Date: August 29, 2008.

FOR FURTHER INFORMATION CONTACT: Lori Ledebohm, Harrisburg Airports District Office, (717) 730-2835.

Public Agency: Erie Regional Airport Authority, Erie, Pennsylvania.

Application Number: 08-08-C-00-ERI.

Application Type: Impose and use a PFC.

PFC Level: $4.50.

Total PFC Revenue Approved in This Decision: $589,960.

Earliest Charge Effective Date: May 1, 2024.

Estimated Charge Expiration Date: February 1, 2025.

Classes of Air Carriers not Required to Collect PFC's: Non-scheduled on-demand air carriers.

Determination: Approved. Based on information contained in the public agency's application, the FAA has determined that the approved class accounts for less than 1 percent of the total annual enplanements at Erie International Airport.

Brief Description of Projects Approved for Collection and Use: Terminal expansion and runway environmental assessment.

Runway environmental assessment, benefit cost analysis, apron design and runway safety area.

Additional environmental assessment, wetlands mitigation, and project formulation.

Quality control.

Flight information display system.

Obstruction removal.

Obstruction removal phase II.

Install emergency communication system.

Crack sealing and airside marking.

Upgrade security systems.

Acquire safety equipment.

Server/installation.

Water service upgrade.

Airport signage.

Boarding area renovations.

Security renovations.

Terminal plan.

Miscellaneous terminal improvements.

Benches and receptacles.

Security evaluation.

Emergency generator, phase II.

Emergency generator, phase III.

Air conditioning unit—main lobby.

PFC application preparation.

Brief Description of Disapproved Project: Energy management system.

Determination: The FAA determined that the project did not meet eligibility requirements.

Decision Date: August 29, 2008.

FOR FURTHER INFORMATION CONTACT: Lori Ledebohm, Harrisburg Airports District Office, (717) 730-2835.

Public Agency: City of Monroe, Louisiana.

Application Number: 08-03-C-00-MLU.

Application Type: Impose and use a PFC.

PFC Level: $4.50.

Total PFC Revenue Approved in This Decision: $16,400,000.

Earliest Charge Effective Date: November 1, 2008.

Estimated Charge Expiration Date: June 1, 2036.

Class of Air Carriers not Required to Collect PFC's: Air taxi/commercial operators filing FAA Form 1800-31.

Determination: Approved. Based on information contained in the public agency's application, the FAA has determined that the approved class accounts for less than 1 percent of the total annual enplanements at Monroe Regional Airport.

Brief Description of Projects Approved for Collection and Use: Passenger terminal building.

Professional fees associated with PFC program administration.

Decision Date: September 8, 2008.

FOR FURTHER INFORMATION CONTACT: Patrick Vaught, Louisiana! New Mexico Airports Development Office, (817) 222-5638.

Public Agency: City of Atlanta, Georgia.

Application Number: 08-10-C-00-ATL.

Application Type: Impose and use a PFC.

PFC Level: $4.50.

Total PFC Revenue Approved in This Decision: $25,166,712.

Earliest Charge Effective Date: April 1, 2020.

Estimated Charge Expiration Date: June 1, 2020.

Class of Air Carriers not Required to Collect PFCs: All air taxi/commercial operators filing FAA Form 1800-31.

Determination: Approved. Based on information contained in the public agency's application, the FAA has determined that the approved class accounts for less than 1 percent of the total annual enplanements at Hartsfield-Jackson Atlanta International Airport.

Brief Description of Projects Approved for Collection and Use: Security fencing.

South airfield lighting vault generator.

Terminal security screening checkpoint expansions.

Decision Date: September 16, 2008.

FOR FURTHER INFORMATION CONTACT: Anna Guss, Atlanta Airports District Office (404) 305-7146.

Public Agency: Williams Gateway Airport Authority, Mesa, Arizona.

Application Number: 08-01-C-00-IWA.

Application Type: Impose and use a PFC.

PFC Level: $4.50.

Total PFC Revenue Approved in This Decision: $3,585,510.

Earliest Charge Effective Date: November 1, 2008.

Estimated Charge Expiration Date: February 1, 2013.

Class of Air Carriers not Required to Collect PFC's: None.

Brief Description of Projects Approved for Collection and Use:

Runway 12L/30R rehabilitation.

Modify existing terminal building.

Acquire aircraft rescue and firefighting vehicles.

Rehabilitate taxiway A and construct taxiway B.

Cargo apron construction.

Taxiway F construction.

Taxiway A/P fillet construction.

Rehabilitate runway 12C/30C and 12R/30L.

Part 150—noise compatibility study.

Decision Date: September 25, 2008.

FOR FURTHER INFORMATION CONTACT: Darlene Williams, Los Angeles Airports District Office, (310) 725-3625.

Public Agency: City of Billings Aviation and Transit Department, Billings, Montana.

Application Number: 08-05-C-00-BIL.

Application Type: Impose and use a PFC.

PFC Level: $3.00.

Total PFC Revenue Approved in This Decision: $2,000,000.

Earliest Charge Effective Date: November 1, 2008.

Estimated Charge Expiration Date: August 1, 2011.

Class of Air Carriers not Required to Collect PFC's: None.

Brief Description of Projects Approved for Collection and Use:

Acquire high speed runway sweeper.

Acquire sweeper! vacuum truck.

Acquire truck chassis for aircraft rescue and firefighting vehicle water tender.

Install terminal building emergency generator.

Decision Date: September 25, 2008.

FOR FURTHER INFORMATION CONTACT: Dave Stelling, Helena Airports District Office, (406) 449-5257.

Public Agency: Metropolitan Airport Authority of Peoria, Peoria, Illinois.

Application Number: 08-05-C-00-PIA.

Application Type: Impose and use a PFC.

PFC Level: $4.50.

Total PFC Revenue Approved in This Decision: $7,550,000.

Earliest Charge Effective Date: November 1, 2008.

Estimated Charge Expiration Date: February 1, 2015.

Class of Air Carriers not Required to Collect PFC's: Nonscheduled/on demand operators filing FAA Form 1800-31.

Determination: Approved. Based on information contained in the public agency's application, the FAA has determined that the approved class accounts for less than 1 percent of the total annual enplanements at Greater Peoria Regional Airport.

Brief Description of Projects Approved for Collection and Use:

Passenger terminal construction.

Snow removal support facility.

Land acquisition.

Taxiways A and D relocation.

Americans with Disabilities Act lift.

Perimeter road and perimeter fence.

Master plan.

Snow removal equipment.

Operations/security driver training system.

Decision Date: September 26, 2008.

FOR FURTHER INFORMATION CONTACT: Richard Pur, Chicago Airports District Office, (847) 294-7527.

Public Agency: State of Hawaii, Honolulu, Hawaii.

Application Number: 08-03-C-00-HNL.

Application Type: Impose and use a PFC.

PFC Level: $4.50.

Total PFC Revenue Approved in This Decision: $55,344,953.

Earliest Charge Effective Date: February 1, 2007.

Estimated Charge Expiration Date: January 1, 2010.

Class of Air Carriers not Required to Collect PFC's: None.

Brief Description of Project Approved for Collection at Honolulu International Airport (HNL) and Use at HNL at a $4.50 PFC Level: Taxiways G and L widening.

Brief Description of Projects Approved for Collection at HNL and Use at HNL at a $3.00 PFC Level:

Aircraft rescue and firefighting facilities improvements.

Escalator improvements.

Loading bridge replacement.

Air conditioning system improvements, phase II.

PFC administrative costs.

Brief Description of Withdrawn Project: New Diamond Head concourse, phase I.

Date of withdrawal: August 4, 2008.

Decision Date: September 29, 2008.

FOR FURTHER INFORMATION CONTACT: Steve Wong, Honolulu Airports District Office, (808) 541-1225.

Public Agency: State of Hawaii, Honolulu, Hawaii.

Application Number: 08-03-C-00-OGG.

Application Type: Impose and use a PFC.

PFC Level: $4.50.

Total PFC Revenue Approved in This Decision: $13,034,882.

Earliest Charge Effective Date: February 1, 2007.

Estimated Charge Expiration Date: January 1, 2010.

Class of Air Carriers not Required to Collect PFC's: None.

Brief Description of Project Approved for Collection at Kahului Airport (OGG) and Use at HNL at a $4.50 PFC Level: Taxiways G and L widening.

Brief Description of Projects Approved for Collection at OGG and Use at HNL at a $3.00 PFC Level:

Aircraft rescue and firefighting facilities improvements.

Escalator improvements.

Loading bridge replacement.

Air conditioning system improvements, phase II.

PFC administrative costs.

Brief Description of Withdrawn Project: New Diamond Head concourse, phase I.

Date of withdrawal: August 4, 2008.

Decision Date: September 29, 2008.

FOR FURTHER INFORMATION CONTACT: Steve Wong, Honolulu Airports District Office, (808) 541-1225.

Public Agency: State of Hawaii, Honolulu, Hawaii.

Application Number: 08-03-C-00-KOA.

Application Type: Impose and use a PFC.

PFC Level: $4.50.

Total PFC Revenue Approved in This Decision: $4,712,963.

Earliest Charge Effective Date: February 1, 2007.

Estimated Charge Expiration Date: January 1, 2010.

Class of Air Carriers not Required to Collect PFC's: None.

Brief Description of Project Approved for Collection at Kona International Airport at Keahole (KOA) and Use at HNL at a $4.50 PFC Level: Taxiways G and L widening.

Brief Description of Projects Approved for Collection at KOA and Use at HNL at a $3.00 PFC Level:

Aircraft rescue and firefighting facilities improvements.

Escalator improvements.

Loading bridge replacement.

Air conditioning system improvements, phase II.

PFC administrative costs.

Brief Description of Withdrawn Project: New Diamond Head concourse, phase I.

Date of withdrawal: August 4, 2008.

Decision Date: September 29, 2008.

FOR FURTHER INFORMATION CONTACT: Steve Wong, Honolulu Airports District Office, (808) 541-1225.

Public Agency: State of Hawaii, Honolulu, Hawaii.

Application Number: 08-03-C-00-LIH.

Application Type: Impose and use a PFC.

PFC Level: $4.50.

Total PFC Revenue Approved in This Decision: $2,497,337.

Earliest Charge Effective Date: February 1, 2007.

Estimated Charge Expiration Date: January 1, 2010.

Class of Air Carriers not Required to Collect PFC's: None.

Brief Description of Project Approved for Collection at Lihue Airport (LIH) and Use at HNL at a $4.50 PFC Level: Taxiways G and L widening.

Brief Description of Projects Approved for Collection at LIH and Use at HNL at a $3.00 PFC Level:

Aircraft rescue and firefighting facilities improvements.

Escalator improvements.

Loading bridge replacement.

Air conditioning system improvements, phase II.

PFC administrative costs.

Brief Description of Withdrawn Project: New Diamond Head concourse, phase I.

Date of withdrawal: August 4, 2008.

Decision Date: September 29, 2008.

FOR FURTHER INFORMATION CONTACT: Steve Wong, Honolulu Airports District Office, (808) 541-1225.

Public Agency: State of Hawaii, Honolulu, Hawaii.

Application Number: 08-02-C-00-ITO.

Application Type: Impose and use a PFC.

PFC Level: $4.50.

Total PFC Revenue Approved in This Decision: $548,196.

Earliest Charge Effective Date: February 1, 2007.

Estimated Charge Expiration Date: January 1, 2010.

Class of Air Carriers not Required to Collect PFC's: None.

Brief Description of Project approved for Collection at HILO International Airport (ITO) and Use at HNL at a $4.50 PFC Level: Taxiways G and L widening.

Brief Description of Projects Approved for Collection at ITO and Use at a HNL at $3.00 PFC Level:

Aircraft rescue and firefighting facilities improvements.

Escalator improvements.

Loading bridge replacement.

Air conditioning system improvements, phase II.

PFC administrative costs.

Brief Description of Withdrawn Project: New Diamond Head concourse, phase I.

Date of withdrawal: August 4, 2008.

Decision Date: September 29, 2008.

Amendments to PFC Approvals
Amendment No., city, state | Amendment approved date | Original approved net PFC revenue | Amended approved net PFC revenue | Original estimated charge exp. date | Amended estimated charge exp. date
93-01-C-05-CRW, Charleston, WV | 07/17/08 | $2,504,316 | $2,304,154 | 12/01/97 | 12/01/97
98-04-C-03-CRW, Charleston, WV | 07/21/08 | 700,795 | 698,992 | 05/01/00 | 05/01/00
06-06-C-01-ERI, Erie, PA | 08/29/08 | 3,140,337 | 10,582,878 | 06/01/12 | 05/01/24
06-02-C-02-HNL, Honolulu, HI | 09/04/08 | 46,699,392 | 37,026,705 | 11/01/09 | 11/01/09
06-02-C-02-OGG, Kahului, HI | 09/04/08 | 9,573,226 | 7,587,537 | 11/01/09 | 11/01/09
06-02-C-02-KOA, Kona, HI | 09/04/08 | 3,758,088 | 2,977,261 | 11/01/09 | 11/01/09
06-02-C-02-LIH, Lihue, HI | 09/04/08 | 2,002,001 | 1,586,826 | 11/01/09 | 11/01/09
06-01-C-02-ITO, Hilo, HI | 09/04/08 | 467,293 | 381,671 | 11/01/09 | 11/01/09
98-02-C-04-SAN, San Diego, CA | 09/09/08 | 38,273,650 | 33,797,475 | 08/01/03 | 08/01/03

Issued in Washington, DC. on November 19, 2008.
Joe Hebert,
Manager, Financial Analysis and Passenger Facility Charge Branch.

[FR Doc. E8-28032 Filed 11-28-08; 8:45 am]

BILLING CODE 4910-13-M